DEPARTMENT OF COMMERCE

International Trade Administration

[C-475-837; C-489-832]

Carbon and Alloy Steel Wire Rod From Italy and the Republic of Turkey: Postponement of Preliminary Determinations of Countervailing Duty Investigations

AGENCY: Enforcement and Compliance, International Trade Administration, Commerce.

DATES: Effective June 5, 2017.

FOR FURTHER INFORMATION CONTACT: John Corrigan and Yasmin Bordas at (202) 482-7438 and (202) 482-3813, respectively (Italy); Justin Neuman and Omar Qureshi at (202) 482-0486 and (202) 482-5307, respectively (Turkey), AD/CVD Operations, Enforcement and Compliance, International Trade Administration, U.S. Department of Commerce, 1401 Constitution Avenue NW., Washington, DC 20230.

SUPPLEMENTARY INFORMATION:

Background

On April 17, 2017, the Department of Commerce (Department) initiated countervailing duty investigations (CVD) on carbon and alloy steel wire rod from Italy and the Republic of Turkey (Turkey).¹ Currently, the preliminary determinations of these investigations are due no later than June 21, 2017.

¹ See Carbon and Alloy Steel Wire Rod from Italy and Turkey: Initiation of Countervailing Duty Investigations, 82 FR 19213 (April 26, 2017).

Postponement of Preliminary Determination

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the Department initiated the investigation.

On May 25, 2017, Nucor Corporation (Nucor), a petitioner in the underlying investigation, submitted timely requests pursuant to section 703(c)(1)(A) of the Act and 19 CFR 351.205(e) to postpone the preliminary determinations.² For the reasons stated above and because there are no compelling reasons to deny the requests, the Department, in accordance with section 703(c)(1)(A) of the Act, is postponing the deadline for the preliminary determinations to no later than 130 days after the day on which the investigations were initiated. Accordingly, the Department will issue the preliminary determinations no later than August 25, 2017. In accordance with section 705(a)(1) of the Act and 19 CFR 351.210(b)(1), the deadline for the final determinations of these investigations will continue to be 75 days after the date of the preliminary determinations, unless postponed at a later date.

² See Nucor letter re: Carbon and Certain Alloy Steel Wire Rod from Italy: Request to Postpone Preliminary Determination, dated May 25, 2017 (C-475-837); see also Nucor letter re: Carbon and Certain Alloy Steel Wire Rod from the Republic of Turkey: Request to Postpone Preliminary Determination, dated May 25, 2017 (C-489-832).

This notice is issued and published pursuant to section 703(c)(2) of the Act and 19 CFR 351.205(f)(1).

Dated: May 30, 2017.
Ronald K. Lorentzen,
Acting Assistant Secretary for Enforcement and Compliance.

[FR Doc. 2017-11563 Filed 6-2-17; 8:45 am]

BILLING CODE 3510-DS-P